ENVIRONMENTAL PROTECTION AGENCY

[ER-FRL-9020-6]

Environmental Impact Statements; Notice of Availability

Responsible Agency: Office of Federal Activities, General Information (202) 564-7146 or http://www.epa.gov/compliance/nepa/.

Weekly receipt of Environmental Impact Statements

Filed 04/13/2015 Through 04/17/2015

Pursuant to 40 CFR 1506.9.

Notice

Section 309(a) of the Clean Air Act requires that EPA make public its comments on EISs issued by other Federal agencies. EPA's comment letters on EISs are available at: http://www.epa.gov/compliance/nepa/eisdata.html.

EIS No. 20150107, Draft EIS, BLM, OR, Western Oregon Draft Resource Management Plan, Comment Period Ends: 06/08/15, Contact: Mark Brown, 503-808-6233.

EIS No. 20150108, Draft EIS, USA, HI, Schofield Generating Station Project at United States Army Garrison, Comment Period Ends: 06/08/2015, Contact: Lisa Graham 808-656-3109.

EIS No. 20150109, Draft EIS, STB, MT, Tongue River Railroad, Comment Period Ends: 06/23/2015, Contact: Ken Blodgett 1-866-622-4355.

EIS No. 20150110, Final EIS, USFS, OR, Malheur National Forest Site-Specific Invasive Plants Treatment, Review Period Ends: 06/08/2015, Contact: Joseph Rausch 541-575-3141.

EIS No. 20150111, Draft EIS, NRC, PA, Combined License (COL) for the Bell Bend Nuclear Power Plant, Comment Period Ends: 07/07/2015, Contact: Tomeka Terry 301-415-1488.

EIS No. 20150112, Final EIS, GSA, VA, U.S. Department of State Foreign Affairs Security Training Center, Review Period Ends: 05/26/2015, Contact: Abby Low 215-446-4585.

EIS No. 20150113, Final EIS, USA, AZ, PROGRAMMATIC—Yuma Proving Ground Activities and Operations, Review Period Ends: 05/26/2015, Contact: Sergio Obregon 928-328-2015.

EIS No. 20150114, Final EIS, FHWA, CA, Mid County Parkway, Review Period Ends: 05/26/2015, Contact: Tay Dam 213-894-5918.

EIS No. 20150115, Final EIS, FAA, 00, ADOPTION—Powder River Training Complex, Ellsworth Air Force Base, Contact: William Burris 202-267-8656.

The U.S. Department of Transportation's, Federal Aviation Administration (FAA) has adopted the U.S. Air Force's FEIS #20140334, filed with the USEPA on 11/19/2014. FAA was a cooperating agency on the project and recirculation of the document is not necessary under Section 1506.3(c) of the CEQ Regulations.

EIS No. 20150116, Final EIS, DOE, TX, ADOPTION—Corpus Christi Liquefied Natural Gas (LNG) Project, Contact: John Anderson 202-586-0521.

The U.S. Department of Energy (DOE) has adopted the Federal Energy Regulatory Commission's FEIS #20140302, filed with the U.S. EPA on 10/08/2014. DOE was a cooperating agency on the project and recirculation of the document is not necessary under Section 1506.3(c) of the CEQ Regulations.

Dated: April 21, 2015.
Cliff Rader,
Director, NEPA Compliance Division, Office of Federal Activities.

[FR Doc. 2015-09611 Filed 4-23-15; 8:45 am]

BILLING CODE 6560-50-P